FEDERAL COMMUNICATIONS COMMISSION

47 CFR Part 74

[WT Docket No. 15-36; FCC 15-22]

Permitting Remote Pickup Broadcast Auxiliary Stations To Utilize Modern Digital Technologies

AGENCY: Federal Communications Commission.

ACTION: Proposed rule.

SUMMARY: In this document, the Federal Communications Commission (Commission) seeks comment on its proposal to permit broadcasters to use modern digital technologies for Remote Pickup operations. Permitting this would further the Commission's goal of enabling broadcasters to use the same digital technologies for Remote Pickup operations as used by operators in the Private Land Mobile Radio Service.

DATES: Submit comments on or before April 3, 2015. Submit reply comments on or before April 20, 2015.

ADDRESSES: You may submit comments, identified by WT Docket No. 15-36, by any of the following methods:

• Federal eRulemaking Portal: http://www.regulations.gov. Follow the instructions for submitting comments.

• Federal Communications Commission's Electronic Comment Filing System (ECFS): http://fcc.gov/ecfs//. Follow the instructions for submitting comments.

• Commercial overnight mail (other than U.S. Postal Service Express Mail and Priority Mail): Federal Communications Commission, 9300 East Hampton Dr., Capitol Heights, MD 20743.

• U.S. Postal Service (First-class, Express, and Priority): Federal Communications Commission, 445 12th St. SW., Washington, DC 20554.

• Hand-delivered/Courier: Federal Communications Commission, 445 12th St. SW., Room TW-A325, Washington, DC 20554. The filing hours are 8:00 a.m. to 7:00 p.m. All hand deliveries must be held together with rubber bands or fasteners. Any envelopes and boxes must be disposed of before entering the building.

Instructions: All submissions received must include the agency name and docket number or Regulatory Information Number (RIN) for the Notice of Proposed Rulemaking. All comments received will be posted without change to http://fcc.gov/ecfs//, including any personal information provided. For detailed instructions on submitting comments and additional information on the rulemaking process, see the “Public Participation” heading of the SUPPLEMENTARY INFORMATION section of this document.

Docket: For access to the docket to read background documents or comments received, go to https://apps.fcc.gov/edocs_public/attachmatch/FCC-15-22A1.docx.

FOR FURTHER INFORMATION CONTACT: For further information, please contact Nancy Zaczek of the Wireless Telecommunications Bureau, Broadband Division, at (202) 418-0274 or email to nancy.zaczek@fcc.gov.

SUPPLEMENTARY INFORMATION: This is a summary of the Commission's Notice of Proposed Rulemaking and Order, WT Docket No. 15-36, RM-11648, and RM 11649 adopted on February 13, 2015 and released on February 18, 2015. The complete text of this document will be available for public inspection during regular business hours in the FCC Reference Center (CY-A257) at the Federal Communications Commission, 445 12th Street SW., Washington, DC 20554. Documents will be available electronically in ASCII, Microsoft Word, and/or Adobe Acrobat. The complete text of this document will also be available via ECFS.

Public Participation

Pursuant to §§ 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

• Paper Filers: Parties who choose to file by paper must file an original and one copy of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

People with Disabilities: To request materials in accessible formats for people with disabilities (braille, large print, electronic files, audio format), send an email to fcc504@fcc.gov or call the Consumer & Governmental Affairs Bureau at 202-418-0530 (voice), 202-418-0432 (tty).

I. Order—Remote Pickup (RPU) Center Frequencies

A. Background

1. RPU stations may be authorized to operate within the 25.67-26.48 MHz band (HF RPU Band), the 152.855-154 MHz, 157.45-161.575 MHz, 161.625-161.775 MHz bands (collectively, VHF RPU Band), and the 450-451 MHz and 455-456 MHz bands (collectively, UHF RPU Band). These frequencies are also either available for assignment in the part 90 Private Land Mobile Radio Service (PLMRS) or are near frequencies available for PLMRS use. When the Commission established the current RPU service rules in 2002, its goal was to harmonize the RPU technical standards with the part 90 rules so that broadcasters could use radios developed for part 90 PLMRS use for RPU use, particularly for dispatch and operational traffic. At the same time, the Commission recognized that part 90 narrowband radios may not be suitable for transmitting audio program feeds, which require greater bandwidth to support high audio quality with no delay. Accordingly, the Commission allowed broadcasters to stack multiple RPU channel segments to create wider channels. Under the current rules, the VHF RPU and UHF RPU Bands are divided into segments with designated channel centers, but broadcasters may combine multiple segments to form wider RPU channels so long as they comply with the applicable bandwidth and emission requirements. Broadcasters using RPU stations to transmit program material have primary use of the wider channels.

2. The Engineers for the Integrity of Broadcast Auxiliary Services Spectrum (EIBASS) and the Society for Broadcast Engineers (SBE) have separately identified two obstacles that they argue have prevented broadcasters from using PLMRS equipment for RPU use in the VHF RPU and UHF RPU Bands. The first obstacle concerns a mismatch between PLMRS equipment and the channel centers for RPU stations specified in the Commission's rules. For analog equipment, the 25 kilohertz channel centers listed for RPU stations in the Commission's rules cannot be programmed into analog part 90 PLMRS equipment used by broadcasters. If a broadcaster attempted to combine four 6.25 kilohertz segments to form a 25 kilohertz RPU channel, the center frequency of the resultant channel would be offset from the RPU channel centers specified in the Commission's rules. Under this scenario, the only way to create an RPU channel with a center frequency that is specified in the Commission's rules is to request an odd number of RPU segments (i.e., request an extra segment). Furthermore, while digital equipment can tune to the nearest Hertz, many, if not most, analog radios now in use cannot program frequencies with that degree of accuracy.

B. Discussion

3. As described above, EIBASS and SBE identify two issues relating to the designation of center frequencies for RPU stations: (1) The fact that when an applicant combines an even number of channels, the center frequency for the combined channels will fall in between frequencies listed in the Commission's rules; and (2) the inability of analog equipment to specify the center frequency with the level of precision set forth in the Commission's rules. With the clarification and guidance provided below, we conclude that no rule changes are necessary to address either of these issues.

4. We find that existing § 74.402 of the Commission's rules address the first issue. In its preamble, that rule provides, “When an even number of channels are stacked in those sections [where] stacking is permitted, channel assignments may be made for the frequency halfway between those listed.” Thus, to use EIBASS' example, a broadcaster wishing to combine the 6.25 kilohertz segments centered 455.48750 MHz, 455.49375 MHz, 455.50000 MHz, and 455.50625 MHz into a 25 kilohertz RPU channel could specify 455.496875 MHz as the center frequency of the combined segments because it is halfway between 455.49375 MHz and 455.5 MHz. Consistent with § 74.402, the current process of the Wireless Telecommunications Bureau has been to require applicants to stack the minimum number of segments necessary to accommodate the applicant's bandwidth needs. Applications that stack an odd number of segments must specify a center frequency consistent with the center of the segments listed in § 74.402, and applications that stack an even number of segments must specify a center frequency that falls in between the channel centers listed in § 74.402. The Wireless Telecommunications Bureau will continue to process applications specifying an even number of segments consistent with this interpretation of § 74.402.

5. With respect to the inability of analog equipment to precisely specify frequencies to six decimal places, no transmitter can operate on a specific frequency with absolute precision. The Broadcast Auxiliary Service (BAS) rules recognize this limitation by establishing permissible frequency tolerances for RPU equipment. In the VHF RPU Band, the tightest applicable frequency stability requirement is one part per million, which translates into an acceptable deviation of approximately 150 Hertz on those frequencies. For the UHF RPU Band, the tightest applicable frequency stability requirement is .5 parts per million, which translates into an acceptable deviation of approximately 225 Hertz on those frequencies. We note that the channel centers listed in the rules specify some frequencies in the UHF RPU Band to the nearest 10 Hertz, and neither EIBASS nor SBE has claimed that analog equipment cannot program those frequencies. So long as licensees comply with the applicable emission masks as measured from the center frequency specified in the authorization, and the licensee programs the center frequency as closely to the specified center frequency as the equipment will allow, we would view a licensee as being in compliance with the center frequency requirements of § 74.402 of the Commission's rules for the VHF RPU Band and UHF RPU Band.

II. Notice of Proposed Rulemaking

A. RPU Digital Emissions and Modulation Requirements

6. SBE and EIBASS point out another obstacle to using PLMRS equipment for RPU purposes, specifically the lack of authorization in the rules for use of specific digital technologies. SBE and EIBASS identify Time Division Multiple Access (TDMA), Next Generation Digital Network (NXDN), ANSI/TIA-102A (Project 25), Trans-European Trunked Radio (TETRA), Digital Private Mobile Radio (dPMR), and Digital Mobile Radio (DMR) as digital technologies used in PLMRS radios that could be suitable for RPU use. Section 74.462 of the Commission's rules “requires that the `equipment shall be operated in accordance with emissions specifications included in the grant of the certification and as prescribed in . . . this section” and lists the authorized emissions for RPU stations. The only emissions currently authorized by the rule, however, are all analog emissions. No digital emissions are included in the list of authorized emissions.

7. We propose to change our rules to allow broadcasters to use modern digital technologies such as TDMA and NXDN for RPU operations. We believe it would be in the public interest to give broadcasters the opportunity to use the same digital technologies for RPU stations as those used by part 90 PLMRS licensees. The Commission's intent in 2002 was to harmonize the RPU technical standards with the part 90 rules so that broadcasters could use radios developed for part 90 PLMRS use, particularly for dispatch and operational traffic. By allowing broadcasters to use the same digital technologies for RPU stations as those used by PLMRS licensees, we would further that goal and allow broadcasters to use equipment and technologies developed for PLMRS. We seek comment on the costs and benefits and advantages or disadvantages of allowing broadcasters to use the digital technology of their choice in the VHF and UHF RPU Bands.

8. SBE and EIBASS each propose that we amend § 74.462 of the Commission's rules to permit RPU stations to use any digital emissions that meets the applicable emissions mask and bandwidth limitations. We seek comment on amending § 74.462 in that fashion. We note that while SBE and EIBASS focus on the VHF and UHF RPU Bands, the proposed rule change would also allow digital emissions in the HF RPU Band. We seek comment on whether it is appropriate to also allow digital emissions in the HF RPU Band. We also seek comment on alternative means of amending our rules to reach the same result requested by EIBASS and SBE. Further, we seek comment on amending § 74.462 to specify a maximum authorized bandwidth of 50 kilohertz in the 450.03125-450.61875 MHz and 455.03125 455.061875 MHz bands, as opposed to the maximum authorized bandwidth of 25 kilohertz currently in the rule. This change would make § 74.462 consistent with § 74.402(b) of the Commission's rules, which allows up to eight 6.25 kilohertz segments to be stacked for a total RPU channel bandwidth of 50 kilohertz. We seek comment on the costs and benefits and advantages or disadvantages of the various proposed approaches.

9. We also seek comment on EIBASS's request that we amend § 74.463 of the Commission's rules to explicitly add the phrase “digital modulation”. We seek comment on the proposed rule language and its attendant costs and benefits, and on any alternatives and their associated costs and benefits.

B. Station Identification Requirements

10. In addition, we seek comment on what changes to our station identification requirements are needed to accommodate digital RPU operations. EIBASS recommends that we amend the station identification requirements in § 74.482 of the Commission's rules to cover all forms of commercially available digital land mobile radios, using language that is broad enough to cover new forms of digital signals as they are developed. Although EIBASS specifically recommends that we adopt a method of identifying stations that uses a watermark ID, such as the protocol adopted in the Advanced Television Systems Committee (ATSC) A/82 Data Return Link (DRL) standard, it stresses that is more important that we adopt the same protocol for both RPU BAS and PLMRS stations. In 2010, the Commission sought comment on amending the PLMRS rules to allow station identification in the 150-170 MHz and 450-470 MHz bands in digital format. The proposed rule language in that proceeding would allow PLMRS stations to digitally transmit their call signs, subject to the requirement that the licensees provide the Commission with the means to decode the digital transmission. Adopting the same station identification rules for both RPU BAS and PLMRS stations, EIBASS argues, would enable RPU broadcasters to purchase COTS two-way radios whose transmissions could be universally decoded to identify interfering transmitters. Should we adopt the requirements proposed by the Commission in 2010 for PLMRS stations, or should the Commission adopt a specific standard, such as the A/82 DRL standard? Commenters should provide information on the costs and benefits and advantages or disadvantages of the different approaches.

C. 100 Kilohertz RPU Channels

11. SBE also raises a different but related issue with regard to § 74.402 of the Commission's rules. Specifically, SBE believes there is no current need for new RPU stations with a 100 kilohertz bandwidth. It therefore proposes that no new RPU stations proposing a 100 kilohertz bandwidth be authorized absent a showing of need in individual cases. SBE believes that existing 100 kilohertz RPU stations should be grandfathered.

12. Consistent with SBE's request, we propose to modify § 74.402 to eliminate a licensee's ability to create 100 kilohertz RPU channels in the future. Given the relatively small amount of spectrum available for RPU operations, and that the 100 kilohertz channels overlap the narrower channels, a license specifying 100 kilohertz bandwidth can make it difficult for other broadcasters to obtain spectrum for narrowband RPU operations, which are much more prevalent than 100 kilohertz operations. We note that in the past four years, the Wireless Telecommunications Bureau has received only one application requesting authorization for a 100 kilohertz bandwidth RPU channel. Accordingly, there appears to be little need for licenses with 100 kilohertz channels. If we eliminate the ability to create these channels, applicants would still be able to apply via a waiver of the rules to use 100 kilohertz channels. We emphasize that we are not proposing to change the rights of existing licensees with 100 kilohertz bandwidth RPU channels. Instead, we propose to grandfather existing licensees with 100 kilohertz RPU channel authorizations. These licensees will be permitted to renew their authorizations indefinitely and will be allowed to make modifications to their existing authorization without affecting their grandfathered status. We seek comment on these proposals, as well as their associated costs and benefits.

III. Waiver Request

13. SBE also seeks a temporary waiver of § 74.462 of the Commission's rules to permit broadcasters to use FCC-certified narrowband VHF and UHF RPU equipment, such as TDMA technology or NXDN technology, in the VHF and UHF RPU Bands while the rulemaking is pending. The Commission's rules provide that waivers will be granted if the petitioner shows that: (i) The underlying purpose of the rules(s) would not be served or would be frustrated by application to the instant case, and that a grant of the requested waiver would be in the public interest; or (ii) in view of the unique or unusual factual circumstances of the instant case, application of the rule(s) would be inequitable, unduly burdensome or contrary to the public interest, or the applicant has no reasonable alternative.

14. We decline to grant a blanket waiver of § 74.462 to permit use of digital emissions in the VHF and UHF RPU Bands while this rulemaking is pending. While we agree with SBE that it appears to be in the public interest to empower RPU broadcasters to use digital technologies, the instant rulemaking is designed to provide an opportunity for meaningful comment on this assessment and on important details about the implementation of such digital operations. For example, it is not clear based on the current record how broadcasters using digital equipment will comply with the station identification requirement. If we were to grant a general waiver, broadcasters might use any type of digital RPU equipment, some or all of which might be incompatible with the requirements that the Commission ultimately adopts. Therefore, until the Commission has established rules for implementation of digital technologies in the VHF and UHF, and perhaps HF RPU Bands, we do not find it to be in the public interest to grant broadcasters a general waiver to do so. Under these circumstances, we believe the better course of action is to proceed through the rulemaking process and establish rules that all broadcasters can rely on going forward. Our denial of SBE's request for a general waiver does not preclude a broadcaster from invoking the Commission's waiver rules in a specific case in order to request appropriate individualized relief. Such cases will be considered on an ad hoc basis.

IV. Procedural Matters

A. Ex Parte Rules—Permit-but-Disclose Proceeding

15. Pursuant to § 1.1200(a) of the Commission's rules, the Notice of Proposed Rulemaking and Order shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule § 1.1206(b). In proceedings governed by rule § 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

B. Paperwork Reduction Analysis

16. This document does not contain proposed information collection(s) subject to the Paperwork Reduction Act of 1995 (PRA), Public Law 104-13. In addition, therefore, it does not contain any new or modified “information collection burden for small business concerns with fewer than 25 employees,” pursuant to the Small Business Paperwork Relief Act of 2002, Public Law 107-198, see 44 U.S.C. 3506(c)(4).

C. Initial Regulatory Flexibility Analysis

17. As required by the Regulatory Flexibility Act of 1980, as amended (RFA), the Commission has prepared this present Initial Regulatory Flexibility Analysis (IRFA) of the possible significant economic impact on a substantial number of small entities by the policies and rules proposed in this Notice of Proposed Rulemaking (NPRM). Written public comments are requested on this IRFA. Comments must be identified as responses to the IRFA and must be filed by the deadlines specified in the NPRM for comments. The Commission will send a copy of this NPRM, including this IRFA, to the Chief Counsel for Advocacy of the Small Business Administration (SBA). In addition, the NPRM and IRFA (or summaries thereof) will be published in the Federal Register.

D. Need for, and Objectives of, the Proposed Rules

18. In the NPRM, we propose to amend our rules to allow broadcasters to use any type of digital equipment. In addition, permitting digital emissions in the RPU bands may also require us to amend §§ 74.402, 74.462, and 74.482 of the Commission's rules. These changes are supported by the commenters and will give RPU licensees the flexibility to choose from a wide variety of “off-the-shelf” digital equipment, which will, in turn, encourage RPU licensees to convert to digital systems and increase spectrum efficiency.

E. Legal Basis

19. The proposed action is authorized pursuant to sections 4 and 303 of the Communications Act of 1934, as amended, 47 U.S.C. 154, 303, and § 1.411 of the Commission's rules, 47 CFR 1.411.

F. Description and Estimate of the Number of Small Entities To Which the Proposed Rules Will Apply

20. The RFA directs agencies to provide a description of, and, where feasible, an estimate of the number of small entities that may be affected by the proposed rules and policies, if adopted. The RFA generally defines the term “small entity” as having the same meaning as the terms “small business,” “small organization,” and “small governmental jurisdiction.” In addition, the term “small business” has the same meaning as the term “small business concern” under the Small Business Act. A “small business concern” is one which: (1) Is independently owned and operated; (2) is not dominant in its field of operation; and (3) satisfies any additional criteria established by the SBA.

21. The proposals in the NPRM would affect BAS RPU licensees. Only licensees of broadcast stations, broadcast networks, and cable networks can hold RPU licenses. Additionally, the proposals affect manufacturers of equipment that supports the BAS Remote Pickup Service. BAS involves a variety of transmitters, generally used to relay broadcast programming to the public (through translator and booster stations) or within the program distribution chain (from a remote news gathering unit to the studio or from the studio to the transmitter). The Commission has not developed a definition of small entities applicable to these licensees. Therefore, the applicable definitions of small entities for each of these services under the SBA rules is as follows: for Remote pickup BAS we will use SIC code 4833 when used by a TV station or 4832 when used by a radio station and for BAS equipment manufacturers, we will use SIC code 3663 (Radio and Television Broadcasting and Communications Equipment) which are classified as small businesses if they employ no more than 750 people.

G. Radio Broadcasting

22. The subject rules and policies potentially will apply to all AM and FM radio broadcasting licensees and potential licensees. A radio broadcasting station is an establishment primarily engaged in broadcasting aural programs by radio to the public. Included in this industry are commercial, religious, educational, and other radio stations. Radio broadcasting stations, which primarily are engaged in radio broadcasting, and produce radio program materials are similarly included. However, radio stations that are separate establishments and are primarily engaged in producing radio program material are classified under another NAICS number. The SBA has established a small business size standard for this category, which is: firms having $7 million or less in annual receipts. According to Commission staff review of the BIA Publications, Inc. Master Access Radio Analyzer Database as of August 2, 2013, about 10,811 (97 percent) of 11,162 commercial radio station have revenues of $7 million or less and thus qualify as small entities under the SBA definition. Therefore, the majority of such entities are small entities. We note, however, that many radio stations are affiliated with much larger corporations having much higher revenue. Our estimate, therefore, likely overstates the number of small entities that might be affected by any ultimate changes to the rules and forms.

H. Television Broadcasting

23. This economic census category “comprises establishments primarily engaged in broadcasting images together with sound. These establishments operate television broadcasting studios and facilities for the programming and transmission of programs to the public.” The SBA has created the following small business size standard for Television Broadcasting firms: those having $14 million or less in annual receipts. The Commission has estimated the number of licensed commercial television stations to be 1,388. In addition, according to Commission staff review of the BIA Advisory Services, LLC's Media Access Pro Television Database on March 28, 2012, about 950 of an estimated 1,300 commercial television stations (or approximately 73 percent) had revenues of $14 million or less. We therefore estimate that the majority of commercial television broadcasters are small entities.

24. We note, however, that in assessing whether a business concern qualifies as small under the above definition, business (control) affiliations must be included. Our estimate, therefore, likely overstates the number of small entities that might be affected by our action because the revenue figure on which it is based does not include or aggregate revenues from affiliated companies. In addition, an element of the definition of “small business” is that the entity not be dominant in its field of operation. We are unable at this time to define or quantify the criteria that would establish whether a specific television station is dominant in its field of operation. Accordingly, the estimate of small businesses to which rules may apply does not exclude any television station from the definition of a small business on this basis and is therefore possibly over-inclusive to that extent.

25. In addition, the Commission has estimated the number of licensed noncommercial educational (“NCE”) television stations to be 396. These stations are non-profit, and therefore considered to be small entities.

26. There are also 2,414 LPTV stations, including Class A stations, and 4,046 TV translator stations. Given the nature of these services, we will presume that all of these entities qualify as small entities under the above SBA small business size standard.

I. Description of Projected Reporting, Recordkeeping, and Other Compliance Requirements

27. The NPRM proposes no new reporting or recordkeeping requirements.

J. Steps Taken To Minimize Significant Economic Impact on Small Entities, and Significant Alternatives Considered

28. The RFA requires an agency to describe any significant alternatives that it has considered in reaching its proposed approach, which may include the following four alternatives (among others): (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.

29. The actions proposed in the NPRM would give RPU licensees the flexibility to use off-the-shelf digital equipment, thus reducing their costs. This action will serve the public interest by enabling RPU licensees to use spectrum more efficiently. The rules will therefore open up beneficial economic opportunities to a variety of spectrum users, including small businesses. Because the actions proposed in the NPRM will improve beneficial economic opportunities for all businesses, including small businesses, a detailed discussion of alternatives is not required.

30. Generally, the alternative approach would be to maintain the existing rules. Under that approach, however, Remote Pickup Service licensees would not have the opportunity to use digital off-the-shelf equipment.

K. Federal Rules That May Duplicate, Overlap, or Conflict With the Proposed Rules

31. None.

V. Ordering Clauses

32. Accordingly, it is ordered, pursuant to sections 4 and 303 of the Communications Act of 1934, 47 U.S.C. 154, 303, and § 1.411 of the Commission's rules, 47 CFR 1.411, that the Notice of Proposed Rulemaking is hereby adopted.

33. It is further ordered, pursuant to sections 4 and 303 of the Communications Act of 1934, 47 U.S.C. 154, 303, and § 1.407 of the Commission's rules, 47 CFR 1.407, that the petitions for rulemaking filed by the Engineers for the Integrity of Broadcast Auxiliary Services on October 7, 2011 and by Society of Broadcast Engineers, Incorporated on November 7, 2011 are granted to the extent indicated herein and are otherwise denied.

34. For the reasons stated above, it is further ordered, pursuant to section 4(i) of the Communications Act of 1934, as amended, 47 U.S.C. 154(i), and § 1.925(b)(3) of the Commission's rules, 47 CFR 1.925(b)(3), that the waiver request filed by the Society for Broadcast Engineers on November 7, 2011 is denied.

35. It is further ordered that the Commission's Consumer and Governmental Affairs Bureau, Reference Information Center, shall send a copy of the NPRM, including the IRFA, to the Chief Counsel for Advocacy of the Small Business Administration.

List of Subjects in 47 CFR Part 74

Communications equipment.

Federal Communications Commission.
Sheryl D. Todd,
Deputy Secretary.

For the reasons discussed in the preamble, the Federal Communications Commission proposes to amend 47 CFR part 74 as follows:

PART 74—EXPERIMENTAL RADIO, AUXILIARY, SPECIAL BROADCAST AND OTHER PROGRAM DISTRIBUTION SERVICES

1. The authority citation for part 74 continues to read as follows:

Authority: 47 U.S.C. 154, 302a, 303, 307, 309, 336 and 554.

2. Amend § 74.402 by revising the introductory text in paragraph (d) to read as follows:

§ 74.402 Frequency assignment.

* * * * *

(d) Up to two of the following 50 kilohertz segments may be stacked to form a channel which may be assigned for use by broadcast remote pickup stations using any emission contained within the resultant channel in accordance with the provisions of § 74.462. Users committed to 100 kilohertz bandwidths and transmitting program material will have primary use of these channels. After [insert effective date of rule], initial authorizations with 100 kilohertz bandwidth will not be issued.

* * * * *

3. Amend § 74.462 by revising paragraphs (a) and (b) to read as follows:

§ 74.462 Authorized Bandwidth and Emissions.

(a) Each authorization for a new remote pickup broadcast station or system shall require the use of certificated equipment and such equipment shall be operated in accordance with emission specifications included in the grant of certification and as prescribed in paragraphs (b), (c), and (d) of this section. Any form of modulation may be used.

(b) The maximum authorized bandwidth of emissions corresponding to the types of emissions specified below, and the maximum authorized frequency deviation in the case of frequency or phase modulated emission, shall be as follows:

Frequencies | Maximum authorized bandwidth (kilohertz) | Maximum frequency deviation (kilohertz) ¹
MHz:
25.87 to 26.03 | 40 | 10
26.07 to 26.47 | 20 | 5
152.8625 to 153.3575 ² | 30/60 | 5/10
160.860 to 161.400 | 60 | 10
161.625 to 161.775 | 30 | 5
166.25 and 170.15 ³ | 12.5 | 2.5
450.00625 to 450.99375 | 25 | 5
455.00625 to 455.99375 | 25 | 5
450.03125 to 450.61875 | 50
455.03125 to 455.61875 | 50 | 5
450.6375 to 450.8625
455.6375 to 455.8625 | 50 | 10
450.900, 450.950
455.900, 455.950 ⁴ | 100 | 35
¹ Applies where F1A, F1B, F1D, F1E, F2A, F2B, F2D, F2E, F3E, or F9E emissions are used.
² New or modified licenses for use of the frequencies will not be granted to utilize transmitters on board aircraft, or to use a bandwidth in excess of 30 kilohertz and maximum deviation exceeding 5 kilohertz.
³ For stations licensed or applied for before April 16, 2003, the sum of the bandwidth of emission and tolerance on frequencies 166.25 MHz or 170.15 MHz shall not exceed 25 kilohertz, and such operation may continue until January 1, 2005. For new stations licensed or applied for on or after April 16, 2003, the sum of the bandwidth of emission and tolerance on these frequencies shall not exceed 12.5 kilohertz. For all remote pickup broadcast stations, the sum of the bandwidth of emission and tolerance on these frequencies shall not exceed 12.5 kilohertz on or after January 1, 2005.
⁴ After [insert effective date of rule], new authorizations with 100 kilohertz bandwidth will not be issued.

* * * * *

4. Amend § 74.463 by revising paragraph (c) to read as follows:

§ 74.463 Modulation Requirements.

* * * * *

(c) If frequency modulation or digital modulation is employed, the emission shall conform to the requirements specified in § 74.462.

* * * * *

5. Amend § 74.482 by adding a new paragraph (f) to read as follows:

§ 74.482 Station Identification.

* * * * *

(f) Stations that normally employ digital signals for the transmission of data, text, control codes, or digitized voice, may also be identified by digital transmission of the call sign. A licensee that identifies its call sign in this manner must provide the Commission, upon request, information sufficient to decode the digital transmission and ascertain the call sign transmitted.

* * * * *

[FR Doc. 2015-04155 Filed 3-3-15; 8:45 am]

BILLING CODE 6712-01-P